ENVIRONMENTAL PROTECTION AGENCY

[FRL-6845-6]

Agency Information Collection Activities: Submission for OMB Review; Comment Request; Standards of Performance for New Stationary Sources; New Residential Wood Heaters

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: New source Performance Standards for New Residential Wood Heaters (Subpart AAA), OMB Control Number 2060-0161, expiration date: 9/30/00. The ICR describes the nature of the information collection and its expected burden and cost; where appropriate, it includes the actual data collection instrument.

DATES: Comments must be submitted on or before September 5, 2000.

FOR FURTHER INFORMATION CONTACT: For a copy of the ICR contact Sandy Farmer at EPA by phone at (202) 260-2740, by email at farmer.sandy@epamail.epa.gov, or download off the Internet at http://www.epa.gov/icr and refer to EPA ICR No. 1176.06. For technical questions about the ICR, contact Robert C. Marshall, Jr. at EPA by phone at (202) 564-7021.

SUPPLEMENTARY INFORMATION: Title: 40 CFR 60.530 thru 60.539(b), New source Performance Standards for New Residential Wood Heaters (Subpart AAA), OMB Control No. 2060-0161, EPA ICR No. 1176.06, expiring 9/30/00. This is an extension of a currently approved collection.

Abstract: Information is supplied to the Agency under the applicable rule by emission testing laboratories, manufacturers and commercial owners (e.g., distributors, retailers).

The information supplied by manufacturers to the Agency is used: (1) To ensure that the best demonstrated technology (BDT) is being used to reduce emissions from wood heaters, (2) to ensure that the wood heater tested for certification purposes is in compliance with the applicable emission standards, (3) to provide evidence that production-line wood heaters have emission performance characteristics similar to tested models and (4) to provide assurance of continued compliance.

Manufacturers submit a notification to the Agency stating the dates of certification testing, perform the certification testing at an accredited laboratory, supply detailed component drawings including manufacturing tolerances to the Agency, reapply for certification every five years, seal/store each tested model and maintain all necessary certification test records.

Most recordkeeping and reporting provisions of the rule consists of emissions-related data and other information not considered confidential. However, the confidentiality of certain information obtained by the Agency is safeguarded according to Agency policies.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 3/31/2000 (65 FR 17258); no comments were received.

Burden Statement: The annual public reporting and recordkeeping burden for this collection of information is estimated to average 2.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Manufacturers/Sellers of new residential wood heaters.

Estimated Number of Respondents: 54.

Frequency of Response: On occasion.

Estimated Total Annual Hour Burden: 7,653 hours.

Estimated Total Annualized Non-labor Cost Burden: $1,500,573.

Send comments on the Agency's need for this information, the accuracy of the provided burden estimates, and any suggested methods for minimizing respondent burden, including through the use of automated collection techniques to the following addresses. Please refer to EPA ICR No. 1176.06 and OMB Control No. 2060-0161 in any correspondence.

Ms. Sandy Farmer, U.S. Environmental Protection Agency, Office of Environmental Information, Collection Strategies Division (2822), 1200 Pennsylvania Ave, NW, Washington, DC 20460;

and

Office of Information and Regulatory Affairs, Office of Management and Budget, Attention: Desk Officer for EPA, 725 17th Street, NW, Washington, DC 20503.

Dated: July 30, 2000.
Oscar Morales,
Director, Collection Strategies Division.

[FR Doc. 00-19791 Filed 8-3-00; 8:45 am]

BILLING CODE 6560-50-P